DEPARTMENT OF THE INTERIOR

Fish and Wildlife Service

[FWS-R4-R-2009-N104; 40136-1265-0000-S3]

Buck Island, Green Cay, and Sandy Point National Wildlife Refuges, U.S. VI

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Buck Island, Green Cay, and Sandy Point National Wildlife Refuges for public review and comment. In this Draft CCP/EA, we describe the alternative we propose to use to manage these three refuges for the 15 years following approval of the final CCP.

DATES: To ensure consideration, we must receive your written comments by October 19, 2009.

ADDRESSES: Send comments, questions, and requests for information to: Mr. Michael Evans, Refuge Manager, Sandy Point National Wildlife Refuge, 3013 Estate Golden Rock, Christiansted, VI 00820; telephone: 340/773-4554. The Draft CCP/EA is also available at the Service's Internet Site: http://southeast.fws.gov/planning/.

FOR FURTHER INFORMATION CONTACT: Mr. Michael Evans; telephone: 340/773-4554; e-mail: michael_evans@fws.gov.

SUPPLEMENTARY INFORMATION:

Introduction

With this notice, we continue the CCP process for Buck Island, Green Cay, and Sandy Point National Wildlife Refuges. We started the process through a notice in the Federal Register on March 12, 2007 (72 FR 11046).

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

All three refuges are located in the U.S. Virgin Islands. Buck Island NWR is situated several miles south of the island of St. Thomas and the city of Charlotte Amalie. Green Cay NWR is a small island located several hundred yards north of the island of St. Croix and east of the city of Christiansted. Sandy Point NWR is situated on the southwestern tip of the island of St. Croix. These three refuges are part of the larger Caribbean Islands NWR Complex.

Buck Island NWR was established in 1969. The refuge consists of the entire 45-acre island. The refuge extends to sea level and does not include submerged or marine habitat. In 1969, we obtained approximately 35 acres of the island from the U.S. Navy. In 1981, we obtained an additional 9 acres from the U.S. Coast Guard. In 2004, the final parcel, 0.92-acre, which included the historic iron lighthouse, was obtained from the U.S. Coast Guard. The purpose for establishment of the refuge was its particular value in carrying out the national migratory bird management program.

The off-shore islands around St. Thomas support a number of critical seabird and migratory bird roosting, breeding, and nesting sites. Some of these off-shore islands have been impacted by varying degrees of development and habitat alteration, making remaining islands even more critical for use by migratory birds. Although Buck Island NWR's natural plant and wildlife communities have been severely impacted by human activity, the island has major potential for habitat restoration, enhancement and support of migratory bird populations, and maintenance of existing wildlife populations, both endemic and migratory. The refuge is home to two rare reptiles endemic to the “Puerto Rican Bank,” the geological area containing Puerto Rico, Culebra, St. Thomas, and the British Virgin Islands—the Antillean skink and Puerto Rican racer. The island also provides nesting habitat for the magnificent frigatebird, the red-billed tropicbird, and the laughing gull.

Green Cay NWR, in St. Croix, was established in 1977 to protect the federally endangered St. Croix ground lizard. The refuge consists of the entire 14-acre island of Green Cay. The establishing purpose was to conserve fish or wildlife listed as threatened or endangered species. The refuge extends only to sea level and does not include any of the submerged marine habitat, including coral reefs. Outcrops of lava, tuffs, and breccias are prominent terrestrial geological features. Archaeological conch shell middens (e.g., discarded conch shells) once occurred on the shoreline. Estimated to contain as many as 33,000 shells, these middens demonstrated 1,000 years of human use or occupancy, dating back to as early as 1020 A.D.

Green Cay NWR provides critical habitat for the largest remaining natural population of the St. Croix ground lizard. Its extirpation from the main island of St. Croix, just several hundred yards away, is generally attributed to the modification and loss of shoreline habitat, resulting from human activities and the introduction of predators, such as rats, cats, and dogs. The introduction of the exotic Indian mongoose likely completed the elimination of the species from St. Croix. As a result, this species is one of the rarest reptiles in the world and is unique to St. Croix island ecosystems.

Sandy Point NWR, in St. Croix, includes 383 acres, with no inholdings. The refuge's establishing purpose was to conserve fish or wildlife (including plants) listed as threatened or endangered species. The refuge was established in 1984 when 340 acres were purchased from the West Indies Investment Company. The land was purchased specifically to protect the nesting habitat of endangered leatherback sea turtles. An additional 43 acres have been acquired since that time to protect the Aklis archaeological site and a stand of the endangered Vahl's boxwood tree.

Sandy Point NWR provides critical nesting habitat for three species of federally threatened and endangered sea turtles. The leatherback and hawksbill sea turtles are federally listed as endangered species, and the green sea turtle is federally listed as a threatened species. These same sea turtle species are also protected under Territory of the U.S. Virgin Islands regulations.

The leatherback is the largest sea turtle species in the world, and the largest nesting population within U.S. jurisdiction occurs on Sandy Point NWR. The leatherback sea turtle recovery program began on Sandy Point NWR, with tagging efforts in 1977, and has since developed into one of the most unique, long-term sea turtle research and recovery efforts in the world. The program is a cooperative effort between partnering agencies, researchers, non-governmental organizations, and volunteers. This work has resulted in a leatherback sea turtle population that has grown consistently over the last 27 years, and a scientific database that has documented this population growth. This unique database is critical for leatherback sea turtle population recovery world-wide.

Significant issues addressed in the Draft CCP/EA include: (1) Protection and recovery of threatened and endangered species; (2) habitat management and restoration; (3) appropriate and compatible levels of public use; (4) protection of cultural and historic resources, including archaeological sites (Sandy Point and Green Cay NWRs); (5) historic structures (Buck Island NWR); (6) invasive species management; and (7) funding and staffing.

CCP Alternatives, Including Our Proposed Alternatives

We developed four alternatives for managing Sandy Point NWR, and two alternatives each for managing Green Cay and Buck Island NWRs. For Sandy Point NWR, we chose Alternative D as the proposed alternative. For both Green Cay and Buck Island NWRs, we chose Alternative B as the proposed alternative. A full description of each alternative is found in the Draft CCP/EA. We summarize each alternative below.

Sandy Point NWR

Alternative A—Current Management (No Action Alternative)

Under Alternative A, Sandy Point NWR would continue to be managed as it is today. Wildlife management, habitat management, public use, and visitor services would remain unchanged. The overall management emphasis of the refuge would continue to be the recovery of populations of threatened and endangered animals.

With regard to recovery efforts on behalf of the endangered leatherback sea turtle, we would maintain the seasonal beach closure now in effect, as well as saturation tagging and nest management. Nighttime beach closures to protect adult leatherback turtles and nests and monitoring of nesting turtles would also continue. We would maintain current nest management efforts and the flexible seasonal closure on the entire beach during prime turtle nesting season to optimize hatchling production on the beach.

Existing hawksbill and green sea turtle recovery programs would be continued. We would maintain both tagging of hawksbill and green sea turtles during the leatherback sea turtle nesting season, as well as regular daytime track surveys of both species. Brown pelican recovery efforts would continue by protecting roosting sites and minimizing potential for disturbance by visitors. We would continue to monitor, manage, protect, and enhance least tern nesting sites on the refuge.

We would continue to conserve, enhance, and restore habitats for various landbirds, shorebirds, and waterbirds. However, due to staffing limitations and the need for management priorities, there would not be active management for, or surveys of, reptiles, amphibians, bats, or invertebrates. In order to control invasive animal species, we would continue with selective trapping of non-native mammals, such as dogs, cats, mongoose, and rats, as needed to protect indigenous fauna.

We would continue to manage habitats. Existing dry forest habitats would continue to be protected. We would continue to protect the small population of Vahl's boxwood (Buxus vahlii) on the refuge. However, there would be no active management of other endangered plants and no active monitoring of sea level rise and its effects on beach and lagoon habitats. Invasive plants would continue to be controlled periodically.

We would continue to manage cultural resources, particularly the significant Aklis archaeological site, consistent with section 106 of the National Historic Preservation Act. No excavation associated with construction would be permitted at or near the site; however, no additional efforts would be undertaken to prevent further natural beach erosion from affecting the site.

Public uses and visitor services on the refuge would not change. Shoreline fishing would be permitted on the refuge during its open hours. Existing opportunities would continue for controlled observation of nesting leatherback turtles and hatchlings, as well as limited opportunities for bird watching. Environmental education and interpretation would be maintained, including the turtle watch education program.

We would complete and open the new refuge headquarters to the public as a visitor contact station. Beach access would continue from 10 a.m. to 4 p.m. on weekends, outside of the seasonal closure for leatherback sea turtle nesting. We would continue the existing education and outreach programs, such as the sea turtle watch program, Youth Conservation Corps program, periodic news releases, news media interviews, Web site content, school visits, and informal face-to-face contact with refuge visitors.

We would maintain the current permanent staff of two (refuge manager and refuge biologist) and a fluctuating number of temporary employees. Existing facilities and equipment would be maintained and replaced when necessary, but there would be no expanded facilities, infrastructure, and equipment.

Alternative B—Expanded Visitor Opportunities

Alternative B would emphasize expanded visitor opportunities and public use. The refuge would eliminate its seasonal beach closure (and allow the public to frequent the beach year-round on weekends during daylight hours), but continue saturation tagging of leatherback turtles, though with reduced nest management. We would continue nighttime beach closures to protect turtles and nests from poaching and predation, and we would also continue to monitor nesting turtles.

The refuge would continue with nighttime closures to protect sea turtles and nests and to monitor nesting turtles. To protect hawksbill and green sea turtles, we would continue tagging during the leatherback sea turtle nesting and monitoring season and we would also continue regular daytime track surveys.

Some visitor access to the vicinity of brown pelican roosting sites would be permitted, such as watercraft in the Salt Pond. Similarly, some visitor access to the vicinity of least tern nesting sites would also be permitted, but the refuge biologist would continue to monitor and manage tern nests.

Under Alternative B, as under Alternative A, we would continue to conserve, enhance, and restore habitats for landbirds, shorebirds, and waterbirds. Unlike Alternative A, some visitor access to the vicinity of feeding and nesting habitats would be permitted.

There would be no active management for, or surveys of, reptiles, amphibians, bats, or invertebrates on the refuge under Alternative B, just as under Alternative A. We would, however, continue with selective trapping of non-native mammals as needed to protect indigenous fauna.

With regard to habitat management, Alternative B is almost identical to Alternative A. The refuge would implement custodial management of its dry forest habitat, that is, there would be no effort to restore native forest biodiversity. Concerning wetlands, watercraft would be allowed in a portion of the Salt Pond. We would continue to protect Vahl's boxwood specimens, but there would be no active management of other endangered plants and no active monitoring of sea level rise associated with climate change and global warming. Nonetheless, we would continue to periodically control invasive vegetation.

We would continue to manage cultural resources, particularly the Aklis archaeological site, consistent with section 106 of the National Historic Preservation Act. The refuge manager and at least one other staff person would continue to provide law enforcement as a collateral duty.

We would adopt and begin to implement a Visitor Services Plan. This plan would provide more specific direction on increasing visitor services and facilities to accommodate expanded public use. Shoreline fishing opportunities would be expanded. Likewise, there would be expanded opportunities for wildlife observation and photography by constructing one or more trails, observation deck(s), and camera blind(s). Environmental education and interpretation opportunities would also increase.

Within the 15-year life of the CCP, we would expand the headquarters and visitor contact station or a nearby site into a full-fledged visitor center, including exhibits and a theatre. Concerning beach access, we would allow pedestrian access to the beach from 10 a.m. to 4 p.m. on weekends during the entire year; the beach would continue to be closed weekdays because of our inability to patrol it during that time.

Adding a park ranger position would allow us to increase education and outreach efforts. We would collaborate with the Virgin Islands Network of Environmental Educators in these efforts. We would also expand the Youth Conservation Corps (YCC) program to include more participants. In addition, we would expand our partnerships and encourage development of a Friends of Sandy Point NWR organization—a volunteer organization that could assist the refuge in a number of ways.

Under Alternative B, we would add a park ranger to address expanded outreach and environmental education and interpretation programs.

Alternative C—Exclusive Biological Program Emphasis

Under Alternative C, we would exclusively emphasize the biological program. Visitor services would be downplayed and public use reduced in order to focus on the refuge's primary purpose of restoring local populations of threatened and endangered species. The most salient feature of this alternative is a year-round refuge closure. Except for the headquarters and visitor contact station near the refuge entrance, the refuge would be closed to the public all year, as is the case at Green Cay NWR, in order to protect highly sensitive species of fauna.

With regard to recovery efforts on behalf of the endangered leatherback sea turtle, this alternative would be identical to current management direction (Alternative A). We would maintain and extend the beach closure now in effect, as well as saturation tagging nest management. Nighttime beach closures to protect adult leatherback sea turtles and nests and monitoring of nesting turtles would also continue. We would maintain current nest management efforts, as well as the beach closure to optimize leatherback hatchling production.

To encourage recovery of the hawksbill and green sea turtles, we would begin saturation tagging and nest management, in addition to the year-round closure.

Efforts on behalf of brown pelican recovery would be the same as under Alternative A. In addition, we would implement a year-round refuge closure to increase least tern nesting by greatly reducing the potential for disturbance. The year-round refuge closure would also reduce the potential for disturbance of landbirds, shorebirds, and waterbirds. In addition, we would upgrade the quality and increase native biodiversity of upland forests and wetlands to benefit landbirds, shorebirds, and waterbirds.

We would begin to conduct status surveys for reptile and amphibian species of special concern, including bats and invertebrates. Bats would further benefit from habitat enhancement and installation of artificial nest structures. We would implement refuge-wide control of non-native animals to protect indigenous fauna.

Alternative C would accelerate efforts to restore the structure, function, and diversity of dry forest habitat. We would begin to actively monitor status and trends on Salt Pond as they affect mangroves, wetlands, and wildlife habitat. We would not only protect existing stands and specimens of Vahl's boxwood, but would also conduct recovery activities, such as nursery germination and planting. With respect to other endangered plants, we would investigate the potential for establishing a Catesbaea melanocarpa population on the refuge.

We would actively cooperate with the U.S. Geological Survey and other agencies to develop and implement protocols for monitoring sea level rise and its impacts on habitats. Also, we would develop and begin to implement a step-down management plan on invasive plant control.

Alternative C would continue to protect cultural resources, particularly the Aklis archaeological site, consistent with section 106 of the National Historic Preservation Act.

Visitor services would be sharply reduced. Except for the headquarters and visitor contact station, the refuge would be closed to all public uses, including the priority public uses of the Refuge System (e.g., hunting, fishing, wildlife observation, wildlife photography, and environmental education and interpretation). Environmental education and interpretation, while eliminated on the refuge proper, would continue off-refuge (e.g., schools and other facilities) or in the visitor contact station.

No visitor center would be necessary under Alternative C, and we would implement and enforce a year-round beach closure. However, we would increase education and outreach efforts, and in part reorient them to explain the value of a complete refuge closure. We would also collaborate with the Virgin Islands Network of Environmental Educators. The YCC program would be continued, but operations would be restricted to biological programs related to habitat enhancement and wildlife population recovery.

Under Alternative C, developing partnerships and volunteers would be the same as under Alternative B. We would expand existing partnerships and encourage development of a Friends of Sandy Point NWR organization. Staffing would be the same as under Alternative A. We would maintain a permanent, full-time staff of two and fluctuating temporary staff. In terms of facilities and equipment, Alternative C would add a maintenance facility.

Alternative D—Enhanced Biological and Visitor Service Programs (Proposed Alternative)

Alternative D would endeavor to enhance both the biological and visitor service programs at Sandy Point NWR. This alternative is our proposed alternative.

Recovery efforts for the endangered leatherback sea turtle would be the same as under Alternative A. We would maintain the seasonal beach closure now in effect, as well as saturation tagging and nest management. Nighttime beach closures to protect adult leatherback sea turtles and nests and monitoring of nesting sea turtles would also continue. We would maintain current nest management efforts and the flexible seasonal closure on the entire beach, during the prime sea turtle nesting season, to optimize leatherback hatchling production on the beach.

Alternative D would pursue both hawksbill and green sea turtle recovery by implementing saturation tagging and nest management. Unlike Alternative C, Alternative D would not entail year-round beach closure, but would maintain the current schedule.

We would continue to protect pelican roosting sites by minimizing the potential for disturbance by visitors. Alternative D would manage least terns by continuing to monitor, manage, protect, and enhance least tern nesting sites on the refuge; the aim would be to increase the number of least terns nesting here through various steps.

Alternative D would benefit landbirds, shorebirds, and waterbirds by upgrading the quality and increasing the native biodiversity of upland forests and wetlands to benefit landbirds. Alternative D would not implement a year-round refuge closure to reduce potential for disturbance of these species.

We would begin to conduct status surveys for reptile and amphibian species of special concern. The presence or absence of bats would also be surveyed, and we would undertake habitat enhancement and installation of artificial nest structures for bats. We would begin to conduct status surveys for invertebrates. Refuge-wide control of non-native animals to protect indigenous fauna would be carried out as needed.

We would accelerate efforts to restore the structure, function, and diversity of dry forest habitat. We would begin to actively monitor status and trends on the Salt Pond as they affect mangroves, wetlands, and wildlife habitat. We would not only protect existing stands and specimens of Vahl's boxwood, but would also conduct recovery activities, such as nursery germination and planting. With respect to other endangered plants, we would investigate the potential for establishing a Catesbaea melanocarpa population on the refuge.

We would actively cooperate with the U.S. Geological Survey and other agencies to develop and implement protocols for monitoring sea level rise and its impacts on habitats. Also, we would develop and begin to implement a step-down management plan on invasive plant control.

We would continue to manage cultural resources, particularly the Aklis archaeological site, consistent with section 106 of the National Historic Preservation Act. In addition, under this alternative and within 15 years of CCP approval, we would develop and begin to implement a Cultural Resources Management Plan.

The refuge manager and at least one other staff person would continue to provide law enforcement as a collateral duty in Alternative D. Public use and visitor services would expand somewhat, though not as much as under Alternative B, with its visitor emphasis. A Visitor Services Plan would be prepared. Shoreline fishing opportunities would expand. Two other priority public uses of the National Wildlife Refuge System (e.g., wildlife observation and wildlife photography) would also expand. The refuge would develop an accessible trail and observation deck, with expansive views of the Salt Pond.

Both environmental education and interpretation would increase. We would aim to develop environmental education and interpretation opportunities around the new refuge headquarters and visitor center, which would be constructed in the vicinity. We would also establish an interpretive trail near the visitor contact station and visitor center and would expand the information and educational opportunities available at both facilities.

Alternative D would continue to allow access to the beach from 10 a.m. to 4 p.m. on weekends, outside of seasonal closure for leatherback sea turtle nesting. If staffing permits, this alternative would also provide pedestrian access to the beach during the week from 9 a.m. to 5 p.m., outside of the seasonal closure for turtle nesting.

We would continue the existing education and outreach program, such as the turtle watch program, YCC program, periodic news releases, news media interviews, Web site content, school visits, informal face-to-face contact with refuge visitors, and continuing development of the visitor contact station. Education and outreach efforts would increase. We would collaborate with the Virgin Islands Network of Environmental Educators to augment and extend our efforts related to the resources of the refuge and the issues it faces.

The YCC program would be maintained for two months during the summer. We would aim to expand the YCC program to include more participants than the 4 to 5 at present. Existing partnerships would continue, and we would attempt to expand on existing partnerships and encourage development of a Friends of Sandy Point NWR organization.

Alternative D would maintain the permanent, full-time staff of two and fluctuating temporary staff and add a total of four permanent, full-time positions to include an assistant refuge manager, a park ranger, a maintenance worker, and an administrative assistant. We would maintain the new headquarters, greenhouse, road, storage facilities, three vehicles, farm tractor, one zodiac, and one Navy johnboat. Within 15 years of CCP approval, Sandy Point NWR would add a visitor center distinct from, but close to, the refuge headquarters and maintenance facility.

Green Cay NWR

Alternative A—Continue Current Management (No Action Alternative)

Under Alternative A, current management direction would be maintained at Green Cay NWR. To promote recovery of the endangered St. Croix ground lizard, we would continue existing programs of reforestation and rat and invasive plant control and population monitoring. We would also maintain closure of the island to public access to avoid the accidental direct mortality and habitat degradation this might cause.

With regard to brown pelicans and white-crowned pigeons, we would continue to monitor, protect, and minimize disturbance to rookery and nesting sites.

Habitat recovery efforts would proceed as at present. As resources permit, we would continue to reforest the island, using native tree species. An important part of habitat recovery would involve control of invasive species of plants and animals that damage habitat.

Under Alternative A, we would continue to manage Green Cay NWR's cultural resources consistent with section 106 of the National Historic Preservation Act.

To conduct outreach and education, we would continue to maintain the refuge Web site, distribute information, maintain limited signage on the island identifying it as a national wildlife refuge closed to the public, and conduct periodic presentations off-refuge.

Alternative B—Proposed Alternative

In general, Alternative B would maintain all programs of Alternative A and build on or expand them. This is the Service's proposed alternative for managing Green Cay NWR.

To promote recovery of the endangered St. Croix ground lizard, as under Alternative A, Alternative B would continue existing programs of reforestation and rat and invasive plant control and population monitoring. We would also maintain closure of the island to public access to avoid the accidental direct mortality and habitat degradation this might cause. In addition, Alternative B would develop a habitat restoration plan within 3 years of CCP approval, with the aim of improving habitat for the ground lizard.

With regard to brown pelicans and white-crowned pigeons, we would continue to monitor, protect, and minimize disturbance to rookery and nesting sites. On behalf of both of these bird species, we would accelerate reforestation efforts to increase optimal nest sites.

Habitat recovery efforts would proceed, but at an accelerated rate from the present one. We would also aim to increase the rate of reforestation so as to complete 100 percent of the area intended for reforestation by the end of the 15-year planning period. An important part of accelerating habitat recovery would be to increase the control of invasive plants and animals. We would also evaluate the effectiveness of different methods of control to ensure that what we are doing works and to make modifications in the approach as indicated.

Under Alternative B, we would continue to manage Green Cay NWR's cultural resources consistent with section 106 of the National Historic Preservation Act. Also, we would develop and begin to implement a Cultural Resources Management Plan.

To conduct outreach and education, we would continue to maintain the refuge Web site, distribute information, maintain signage on the island identifying it as a national wildlife refuge closed to the public, and conduct periodic presentations off-refuge. Under Alternative B, these efforts would be augmented by installing larger signs that could be seen and read from a greater distance, expanding outreach efforts to nearby hotels, and considering alternatives to visitation within the refuge itself, such as offering or promoting boat and kayak tours around the island.

Buck Island NWR

Alternative A—Continue Current Management (No Action Alternative)

Under Alternative A, current management direction would be maintained at Buck Island NWR. Staff for the refuge would continue to be based out of Sandy Point NWR on St. Croix.

There would continue to be no active management of the Antillean skink, Puerto Rican racer, or other herptiles. Nor would there be active management of the magnificent frigatebird and the red-billed tropicbird.

We would continue to monitor for rat reinvasions, after having eliminated rats from the island several years ago in an active trapping program. Other than controlling invasive species such as rats, we would not conduct any active habitat restoration on the island. There would be no active control program for invasive plant species.

We would continue to manage cultural resources, particularly the historic lighthouse, consistent with section 106 of the National Historic Preservation Act.

We would continue to maintain the refuge Web site, distribute information, maintain limited signage on the island, and make periodic presentations off-refuge, primarily on St. Thomas.

Partnerships and volunteers would remain important to the refuge. We would continue to cooperate with the Virgin Islands Department of Planning and Natural Resources on joint wildlife and habitat management efforts for Buck Island and adjacent Capella Island.

Alternative B—Proposed Alternative

In general, Alternative B would maintain all programs of Alternative A and build or expand upon them. This is our proposed alternative for managing Buck Island NWR.

Under Alternative B, we would strive to provide more active management of the island's indigenous wildlife, particularly species of concern. Within 5 years of CCP approval, we would draft and begin to implement an inventorying and monitoring plan for the Antillean skink, Puerto Rican racer, magnificent frigatebird, and red-billed tropicbird.

We would continue to monitor for rat reinvasions. To pursue and promote habitat recovery on Buck Island, we would develop and begin to implement a habitat restoration plan within 5 years of CCP approval. We would aim to increase control of invasive plants and animals and evaluate the effectiveness of different methods of control.

Under this alternative, we would continue to manage cultural resources, particularly the historic lighthouse, consistent with section 106 of the National Historic Preservation Act. However, within 5 years of CCP approval, we would also evaluate the condition and safety of the historic lighthouse and decide on the feasibility of preservation or restoration. In addition, we would develop and begin to implement a Cultural Resources Management Plan.

With regard to conducting outreach and education, we would continue to maintain the refuge Web site, distribute information, maintain limited signage on the island, and make periodic presentations off-refuge.

Partnerships and volunteers would remain important to the refuge. We would continue to cooperate with the Virgin Islands Department of Planning and Natural Resources on joint wildlife and habitat management efforts for Buck Island and adjacent Capella Island. Also, Alternative B would expand cooperative education and interpretive efforts with the city of Charlotte Amalie and ecotourism companies, which bring visitors to offshore waters to explore coral reefs. We would also explore development of a Friends Group to provide a more active management presence on the island.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

June 22, 2009.
Cynthia K. Dohner,
Acting Regional Director.

[FR Doc. E9-22379 Filed 9-16-09; 8:45 am]

BILLING CODE 4310-55-P